DEPARTMENT OF THE INTERIOR

National Park Service

[NPS-NERO-GATE-12725; PPNEGATEB0, PPMVSCS1Z.Y00000]

Notice of 2013 Meeting Schedule for Fort Hancock 21st Century Advisory Committee

AGENCY: National Park Service, Interior.

ACTION: Meeting Notice.

SUMMARY: This notice sets forth the dates of meetings of the Fort Hancock 21st Century Advisory Committee occurring in 2013.

DATES: The schedule for future public meetings of the Fort Hancock 21st Century Advisory Committee is as follows:

1. May 16, 2013 at 9:00 a.m. (EASTERN)

2. June 28, 2013 at 9:00 a.m. (EASTERN)

3. August 2, 2013 at 9:00 a.m. (EASTERN)

4. September 20, 2013 at 9:00 a.m. (EASTERN)

5. November 1, 2013 at 9:00 a.m. (EASTERN)

6. December 9, 2013 at 9:00 a.m. (EASTERN)

ADDRESSES: For the April 23, 2013 and May 16, 2013 meetings the committee members will meet at Ocean Place Resort and Spa, 1 Ocean Boulevard, Long Branch, NJ 07740. For all following meetings including and after the June 28, 2013 meeting, the committee members will meet at The Chapel at Sandy Hook, Hartshorne Drive, Middletown, NJ 07732. Please check www.forthancock21stcentury.org for additional information.

Agenda: Committee meeting will consist of the following:

1. Welcome and Introductory Remarks

2. Update on Progress from Working Groups and Subcommittees

3. Review Work Product and Potential Recommendations, as needed

4. Review and Discuss Key Issues Related to Potential Reuse of Historic Buildings

5. Review and Discuss Proposals and Adopt Recommendations, as needed

6. Identify and Discuss Outreach and Education Efforts and Activities

7. Schedule, Agenda Topics for Future Meetings, Future Committee Activities

8. Public Comment

9. Adjournment

The final agenda will be posted on www.forthancock21stcentury.org prior to each meeting.

FOR FURTHER INFORMATION CONTACT: Further information concerning the meeting may be obtained from John Warren, Gateway National Recreation Area, 210 New York Avenue, Staten Island, NY 10305, at (718) 354-4608 or email: forthancock21stcentury@yahoo.com, or visit the Advisory Committee Web site at www.forthancock21stcentury.org.

SUPPLEMENTARY INFORMATION: Under section 10(a)(2) of the Federal Advisory Committee Act (5 U.S.C. App.). The purpose of the committee is to provide advice to the Secretary of the Interior, through the Director of the National Park Service, on the development of a reuse plan and on matters relating to future uses of certain buildings at Fort Hancock within Gateway National Recreation Area.

The meeting is open to the public. Interested members of the public may present, either orally or through written comments, information for the committee to consider during the public meeting. Attendees and those wishing to provide comment are strongly encouraged to preregister through the contact information provided. The public will be able to comment at each meeting, from 4:00 p.m. to 4:45 p.m. Written comments will be accepted prior to, during or after the meeting. Due to time constraints during the meeting, the committee is not able to read written public comments submitted into the record. Individuals or groups requesting to make oral comments at the public committee meeting will be limited to no more than 5 minutes per speaker.

Before including your address, telephone number, email address, or other personal identifying information in your written comments, you should be aware that your entire comment including your personal identifying information may be made publicly available. While you can ask us in your comment to withhold your personal identifying information from public review, we cannot guarantee that we will be able to do so. All comments will be made part of the public record and will be electronically distributed to all committee members.

Dated: April 2, 2013.
Linda Canzanelli,
Superintendent, Gateway National Recreation Area.

[FR Doc. 2013-08678 Filed 4-12-13; 8:45 am]

BILLING CODE 4310-WV-P